DEPARTMENT OF THE INTERIOR

National Park Service

Notice of Establishment of the Sand Creek Massacre National Historic Site

AGENCY: National Park Service.

ACTION: Notice.

SUMMARY: Under Public Law 106-465, the Sand Creek Massacre Site Establishment Act of 2000, the Secretary of the Interior hereby announces that sufficient lands have been acquired to establish the Sand Creek Massacre National Historic Site in Kiowa County, Colorado. Public Law 106-465 called for the Secretary of the Interior to establish the Sand Creek Massacre National Historic Site once the Secretary had determined that sufficient lands had been acquired by the federal government to provide for the preservation, memorialization, commemoration, and interpretation of the Sand Creek Massacre. The Act authorized the National Park Service to acquire up to 12,500 acres from willing sellers for this purpose. Between 2002 and 2004 the United States acquired 920 acres within the authorized boundaries. On September 9, 2006, pursuant to Public Law 109-45, the Sand Creek Massacre National Historic Site Trust Act of 2005, the Cheyenne and Arapaho Tribes of Oklahoma conveyed to the United States title to 1465 acres within the authorized boundaries to be held in trust for the purposes of the Sand Creek Massacre National Historic Site. With this conveyance, the United States has acquired a sufficient amount of the nationally significant resources that are integral to the preservation, commemoration and interpretation of the Sand Creek Massacre.

DATES: This action is effective April 27, 2007.

ADDRESSES: Requests for information should be sent to Sand Creek Massacre National Historic Site. P.O. Box 249, Eads, Colorado 81036.

FOR FURTHER INFORMATION CONTACT: Alexa Roberts, Superintendent, Sand Creek Massacre National Historic Site. P.O. Box 249, Eads, Colorado, 81036.

Dated: April 23, 2007.
Dirk Kempthorne,
Secretary.

[FR Doc. E7-8057 Filed 4-26-07; 8:45 am]

BILLING CODE 4310-70-P